FEDERAL COMMUNICATIONS COMMISSION

[MB Docket No. 21-422; DA 21-1611; FR ID 64452]

Media Bureau Extends Comment and Reply Comment Deadlines for FM Directional Antenna NPRM

AGENCY: Federal Communications Commission.

ACTION: Notice.

SUMMARY: In this document, the Commission grants a motion for extension of time in the Updating FM Broadcast Radio Service Directional Antenna Performance Verification proceeding, to extend the comment and reply comment deadlines.

DATES: Comments may be filed on or before January 20, 2022, and reply comments may be filed on or before February 4, 2022.

ADDRESSES: You may submit comments, identified by MB Docket No. 21-422, by any of the following methods:

• Electronic Filers: Federal Communications Commission's website: https://apps.fcc.gov/ecfs//. Follow the instructions for submitting comments.

• Paper Filers: Parties who choose to file by paper must file an original and one copy of each filing.

Filings can be sent by commercial overnight courier, or by first-class or overnight U.S. Postal Service mail (although the Commission continues to experience delays in receiving U.S. Postal Service mail). All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19.

• During the time the Commission's building is closed to the general public and until further notice, if more than one docket or rulemaking number appears in the caption of a proceeding, paper filers need not submit two additional copies for each additional docket or rulemaking number; an original and one copy are sufficient.

People with Disabilities: Contact the FCC to request reasonable accommodations (accessible format documents, sign language interpreters, CART, etc.) by email: FCC504@fcc.gov or phone: 202-418-0530 or 202-418-0432 (TTY).

FOR FURTHER INFORMATION CONTACT: Albert Shuldiner, Chief, Media Bureau, Audio Division, (202) 418-2700; Thomas Nessinger, Senior Counsel, Media Bureau, Audio Division, (202) 418-2700.

SUPPLEMENTARY INFORMATION: This is a summary of the Media Bureau's Public Notice in MB Docket No. 21-422; DA 21-1611, released on December 20, 2021. The full text of this document is available electronically for public inspection via ECFS at https://apps.fcc.gov/ecfs and the FCC's website at https://docs.fcc.gov/public/attachments/FCC-21-1611A1.pdf. Documents will be available electronically in ASCII, Microsoft Word, and/or Adobe Acrobat. Alternative formats are available for people with disabilities (Braille, large print, electronic files, audio format), by sending an email to fcc504@fcc.gov or calling the Commission's Consumer and Governmental Affairs Bureau at (202) 418-0530 (voice), (202) 418-0432 (TTY).

Synopsis

1. By this Public Notice, the Media Bureau extends the deadlines for filing comments and reply comments in the above-captioned proceeding to update the Commission's rules by allowing an FM or LPFM applicant proposing a directional antenna system to verify the system's performance through computer modeling.

2. On November 15, 2021, the Commission released a Notice of Proposed Rulemaking setting out its proposed rule changes allowing verification of FM and LPFM directional antennas by computer modeling. Updating FM Broadcast Radio Service Directional Antenna Performance Verification, MB Docket No. 21-422, Notice of Proposed Rulemaking, FCC 21-117 (Nov. 15, 2021). On November 30, 2021, the Media Bureau announced a comment filing deadline of December 30, 2021, and a reply comment filing deadline of January 14, 2022, in the above-captioned proceeding. Comment and Reply Comment Dates Set for FM Directional Antenna NPRM, MB Docket No. 21-422, Public Notice, DA 21-1485 (MB Nov. 30, 2021).

3. On December 17, 2021, the National Association of Broadcasters (NAB) requested an extension of the comment and reply comment filing deadlines until January 20 and February 4, 2022, respectively. Motion for Extension of Time of the National Association of Broadcasters (NAB), MB Docket No. 21-422 (filed Dec. 17, 2021) (Extension Motion). NAB states that, in the Joint Petition for Rulemaking on which the NPRM was based (Joint Petition for Rulemaking, filed by Dielectric, LLC; Educational Media Foundation; Jampro Antennas, Inc.; Radio Frequency Systems; and Shively Labs (filed June 15, 2021)), the Joint Petitioners included a technical exhibit comparing the results of computer modeling using one commercial software product with the physical measurements taken from an FM directional antenna mounted on one particular type of tower. Extension Motion at 2. NAB believes that the record would “significantly benefit from additional technical information involving common tower structures and other commercial software products.” Id. However, while NAB states it has reached out to broadcasters, consulting engineers, and antenna manufacturers to provide such technical data for the record, it points out that the end-of-year holiday season and upcoming federal holidays means that many potential commenters will be on vacation, or their offices will be closed or dealing with year-end business matters. Id. NAB thus requests a three-week extension of both the comment and reply comment deadlines.

4. As set forth in section 1.46(a) of the Commission's rules, 47 CFR 1.46(a), the Commission's policy is that extensions of time shall not be routinely granted. We find, however, that NAB has set forth a sufficient justification to warrant grant of their requested extension. As an extension should enable interested parties to present more complete and technically constructive comments to the Commission, we agree with NAB that both the parties commenting in the proceeding and the Commission should benefit and that the extension should not disadvantage any party. Extension Motion at 2-3. Accordingly, we grant the NAB's request and extend the comment and reply comment deadlines by three weeks, until January 20, 2022, and February 4, 2022, respectively.

5. For additional information on this proceeding, contact Tom Nessinger, Thomas.Nessinger@fcc.gov, of the Media Bureau, Audio Division. Press inquiries should be directed to Janice Wise, Janice.Wise@fcc.gov, (202) 418-8165.

Federal Communications Commission.
Thomas Horan,
Chief of Staff, Media Bureau.

[FR Doc. 2021-28288 Filed 12-29-21; 8:45 am]

BILLING CODE 6712-01-P